POSTAL SERVICE

39 CFR Part 20

International Mailing Services: Mailing Services Price Changes

AGENCY: Postal Service™.

ACTION: Notice of approval of price changes for mailing services.

SUMMARY: On October 17, 2016, the Postal Service published a notice of proposed price adjustments to reflect a notice of price adjustments filed with the Postal Regulatory Commission (PRC). The PRC has found that price adjustments contained in the Postal Service's notice may go into effect on January 22, 2017. The Postal Service will revise Notice 123, Price List to reflect the new prices.

DATES: Effective date: January 22, 2017.

FOR FURTHER INFORMATION CONTACT: Paula Rabkin at 202-268-2537.

SUPPLEMENTARY INFORMATION:

I. Proposed Rule and Response

On October 12, 2016, the Postal Service filed a notice of mailing services price adjustments with the Postal Regulatory Commission (PRC) for products and services covered by Mailing Standards of the United States Postal Service, International Mail Manual (IMM®), to be effective on January 22, 2017. In addition, on October 17, 2016, the USPS™ published a notice of proposed price changes in the Federal Register entitled “International Mailing Services: Proposed Price Changes” (81 FR 71427). The notice included price changes that we would adopt for products and services covered by Mailing Standards of the United States Postal Service, International Mail Manual (IMM®) and publish in Notice 123, Price List, on Postal Explorer® at pe.usps.com. We received no comments.

II. Decision of the Postal Regulatory Commission

As set forth in the PRC's Order No. 3610 issued on November 15, 2016, as well as in the PRC's Order No. 3670 issued on December 15, 2016, the PRC determined that the international prices in the Postal Service's Notice may go into effect on January 22, 2017. The new prices will accordingly be posted in Notice 123, on Postal Explorer at pe.usps.com.

Stanley F. Mires,
Attorney, Federal Compliance.

[FR Doc. 2016-31525 Filed 1-4-17; 8:45 am]

BILLING CODE 7710-12-P